DEPARTMENT OF ENERGY

Federal Energy Regulatory Commission

[Docket No. ER05-836-001, et al.]

American Electric Power Service Corporation, et al.; Electric Rate and Corporate Filings

May 18, 2005.

The following filings have been made with the Commission. The filings are listed in ascending order within each docket classification.

1. American Electric Power Service Corporation

[Docket No. ER05-836-001]

Take notice that on May 2, 2005 American Electric Power Service Corporation, (AEP), on behalf of Public Service Company of Oklahoma, submitted an amendment to its April 15, 2005 filing of a Construction Agreement between AEP and Blue Canyon Windpower II, LLC.

Comment Date: 5 p.m. eastern time of May 25, 2005.

2. Virginia Electric and Power Company

[Docket No. ER05-885-000]

Take notice that on April 28, 2005, Virginia Electric and Power Company, (Dominion Virginia Power) submitted amendments to its Generator Interconnection and Operating Agreements with Industrial Power Generating Corporation.

Comment Date: 5 p.m. eastern time on May 27, 2005.

3. Southwest Power Pool, Inc.

[Docket Nos. RT04-1-011 and ER04-48-011]

Take notice that on May 13, 2005, Southwest Power Pool, Inc. (SPP) submitted a compliance filing pursuant to the Commission's order issued February 11, 2005, in Docket Nos. RT04-1-005 and ER04-48-005, 110 FERC ¶ 61,137.

Comment Date: 5 p.m. eastern time on June 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2693 Filed 5-26-05; 8:45 am]

BILLING CODE 6717-01-P